DEPARTMENT OF HEALTH AND HUMAN SERVICES

Centers for Disease Control and Prevention

Advisory Board on Radiation and Worker Health (ABRWH or Advisory Board), National Institute for Occupational Safety and Health (NIOSH), and Subcommittee for Dose Reconstruction Reviews (SDRR)

In accordance with section 10(a)(2) of the Federal Advisory Committee Act (Pub. L. 92-463), the CDC announces the following meeting of the aforementioned committee and subcommittee:

Subcommittee Meeting Time and Date

10 a.m.-12:30 p.m., January 8, 2008

Advisory Board Meeting Times and Dates

1 p.m.-4:30 p.m., January 8, 2008

9:30 a.m.-5 p.m., January 9, 2008

8:30 a.m.-2:30 p.m., January 10, 2008

Public Comment Times and Dates

5 p.m.-6 p.m., January 8, 2008

7:30 p.m.-8:30 p.m., January 9, 2008

Place: Suncoast Hotel and Casino, 9090 Alta Drive, Las Vegas, NV 89145. Phone 702.636.7111, Fax 702.636.7050.

Status: Open to the public, limited only by the space available. The meeting space accommodates approximately 75 to 100 people.

Background: The Advisory Board was established under the Energy Employees Occupational Illness Compensation Program (EEOICP) Act of 2000 to advise the President on a variety of policy and technical functions required to implement and effectively manage the new compensation program. Key functions of the Advisory Board include providing advice on the development of probability of causation guidelines which have been promulgated by the Department of Health and Human Services (HHS) as a final rule, advice on methods of dose reconstruction which have also been promulgated by HHS as a final rule, advice on the scientific validity and quality of dose estimation and reconstruction efforts being performed for purposes of the compensation program, and advice on petitions to add classes of workers to the Special Exposure Cohort (SEC).

In December 2000, the President delegated responsibility for funding, staffing, and operating the Advisory Board to HHS, which subsequently delegated this authority to the CDC. NIOSH implements this responsibility for CDC. The charter was issued on August 3, 2001, renewed at appropriate intervals, and will expire on August 3, 2009.

Purpose: This Advisory Board is charged with (a) providing advice to the Secretary, HHS, on the development of guidelines under Executive Order 13179; (b) providing advice to the Secretary, HHS, on the scientific validity and quality of dose reconstruction efforts performed for this program; and (c) upon request by the Secretary, HHS, advise the Secretary on whether there is a class of employees at any Department of Energy facility who were exposed to radiation but for whom it is not feasible to estimate their radiation dose, and on whether there is reasonable likelihood that such radiation doses may have endangered the health of members of this class.

Matters to be Discussed: The topics for the Subcommittee meeting will include a Review of Individual Dose Reconstructions and future Subcommittee Plans and Actions. The agenda for the Advisory Board meeting includes: NIOSH Program Status Report; Redaction of Board Transcripts and SEC Petition for Texas City Chemicals, Inc.; SEC Petition for Nevada Test Site; SEC Petition for Mound; SEC Petition for Combustion Engineering; SEC Petition for Lawrence Livermore National Laboratory; SEC Petition Updates: Bethlehem Steel, Blockson, Chapman Valve, Dow Chemical, Fernald, and Sandia; Science Issues Update; Department of Labor Update; Department of Energy Update; FY08 Tasks for Sanford Cohen & Associates; Update on selection of board support contractor; NIOSH Program Update; Board Future Plans and Schedules; Working Group Reports; and a Subcommittee for Dose Reconstruction Reviews Report. The agenda is subject to change as priorities dictate.

In the event an individual cannot attend, written comments may be submitted according the policy provided below. Any written comments received will be provided at the meeting and should be submitted to the contact person below well in advance of the meeting.

Policy on Redaction of Board Meeting Transcripts (Public Comment)

(1) If a person making a comment gives his or her name, no attempt will be made to redact that name. (2) NIOSH will take reasonable steps to ensure that individuals making public comment are aware of the fact that their comments (including their name, if provided) will appear in a transcript of the meeting posted on a public website. Such reasonable steps include: (a) A statement read at the start of each public comment period stating that transcripts will be posted and names of speakers will not be redacted; (b) A printed copy of the statement mentioned in (a) above will be displayed on the table where individuals sign up to make public comment; (c) A statement such as outlined in (a) above will also appear with the agenda for a Board Meeting when it is posted on the NIOSH Web site; (d) A statement such as in (a) above will appear in the Federal Register Notice that announces Board and Subcommittee meetings. (3) If an individual in making a statement reveals personal information (e.g., medical information) about themselves that information will not usually be redacted. The NIOSH FOIA coordinator will, however, review such revelations in accordance with the Freedom of Information Act and the Federal Advisory Committee Act and if deemed appropriate, will redact such information. (4) All disclosures of information concerning third parties will be redacted. (5) If it comes to the attention of the DFO that an individual wishes to share information with the Board but objects to doing so in a public forum, the DFO will work with that individual, in accordance with the Federal Advisory Committee Act, to find a way that the Board can hear such comments.

Contact Person for More Information: Dr. Lewis V. Wade, Executive Secretary, NIOSH, CDC, 4676 Columbia Parkway, Cincinnati, Ohio 45226, Phone 513.533.6825, Fax 513.533.6826.

The Director, Management Analysis and Services Office, has been delegated the authority to sign Federal Register notices pertaining to announcements of meetings and other committee management activities, for both CDC and the Agency for Toxic Substances and Disease Registry.

Dated: December 12, 2007.
Elaine L. Baker,
Director, Management Analysis and Services Office,Centers for Disease Control and Prevention.

[FR Doc. E7-24644 Filed 12-18-07; 8:45 am]

BILLING CODE 4163-18-P